Title 3—

The President

Proclamation 9189 of October 8, 2014

Leif Erikson Day, 2014

By the President of the United States of America

A Proclamation

At a time when much of the world remained unknown, Leif Erikson—a son of Iceland and grandson of Norway—left his Nordic homeland and sailed westward across an unrelenting ocean. Landing in present-day Canada more than 1,000 years ago, Erikson and his crew became the first Europeans known to reach North America. In this new world, they discovered a land rich with natural resources and established their first settlement, Vinland. Today, we recognize their courageous spirit and the daring exploration that forged a path for centuries of exchange, innovation, and opportunity.

More than 800 years after this historic voyage, a group of Norwegian immigrants boarded a ship named Restauration, and with the same sense of hope and determination shared by Erikson and his crew, they crossed the Atlantic in pursuit of the freedoms promised in America. On October 9, 1825, they arrived in New York City, becoming the first organized group of immigrants from Norway to reach the United States. Together, they wrote a chapter of our two countries' interconnected story and opened the doors to opportunity for the hundreds of thousands of Norwegians who would follow, enriching our communities and bettering our Nation.

This year, we also celebrate the 200th anniversary of the adoption of Norway's constitution, a charter influenced by America's founding documents, and we are reminded of the powerful bonds between our two nations and the values and ideals our people embrace. As we reflect on our common past, we rededicate ourselves to preserving all that has brought us together: the story of a fearless leader who reached for new possibilities; our shared commitment to self-determination and freedom; and the simple truth that has drawn immigrants to our shores—in America, anyone who works hard should be able to get ahead.

Today, there is more work to do to strengthen these promises, and we require bold thinkers and explorers to achieve what we know can be possible. The far reaches of our universe and the depths of our oceans remain unexplored, and the next frontiers in science, medicine, and technology await a new generation of innovators and entrepreneurs. As a Nation, let us carry forward the spirit of Leif Erikson and seize the future together.

To honor Leif Erikson and celebrate our Nordic-American heritage, the Congress, by joint resolution (Public Law 88-566) approved on September 2, 1964, has authorized the President of the United States to proclaim October 9 of each year as “Leif Erikson Day.”

NOW, THEREFORE, I, BARACK OBAMA, President of the United States of America, do hereby proclaim October 9, 2014, as Leif Erikson Day. I call upon all Americans to observe this day with appropriate ceremonies, activities, and programs to honor our rich Nordic-American heritage.

IN WITNESS WHEREOF, I have hereunto set my hand this eighth day of October, in the year of our Lord two thousand fourteen, and of the Independence of the United States of America the two hundred and thirty-ninth.

[FR Doc. 2014-24574

Filed 10-14-14; 8:45 am]

Billing code 3295-F5